DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: 2011 Opioid Treatment Program (OTP) Supplement Survey—NEW

The Substance Abuse and Mental Health Services Administration's (SAMHSA) Center for Behavioral Health Statistics and Quality (CBHSQ) (formerly the Office of Applied Studies—OAS), in conjunction with the Center for Substance Abuse Treatment (CSAT), will conduct a facility-level census survey of opioid treatment programs (OTPs). Approximately 1,200 substance abuse treatment facilities identified by SAMHSA as being certified OTPs will make up the survey universe. In order to realize efficiencies in cost and data analysis, the survey will be conducted in conjunction with the 2011 National Survey of Substance Abuse Treatment Facilities (N-SSATS, OMB No. 0930-0106). However, a separate OMB approval will be requested for the OTP survey.

The OTP survey will use the same point prevalence date as the N-SSATS and will offer the same response options (paper questionnaire, online via the Internet, or by telephone with an interviewer). The information collected will include detailed information on OTP client characteristics and OTP facility operations, information that is not currently obtained by the N-SSATS or other federally-sponsored surveys.

The findings will supplement information collected by the annual N-SSATS and will be published by SAMHSA in a separate report on Opioid Treatment Programs. Survey data will also be used to update SAMHSA's “Medication-Assisted Treatment for Opioid Addiction State Profiles.” These publications will be used by the Federal government, State and local governments, the U.S. Congress, researchers, and other health care professionals. The following Table summarizes the estimated response burden for the survey.

Estimated Total Response Burden for the 2011 OTP Survey
| Number of respondents | Responses per respondent | Average hours per response | Total hour burden
Certified OTP Facilities—2011 Survey | 1,200 | 1 | .83 | 996

Written comments and recommendations concerning the proposed information collection should be sent by January 28, 2011 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-7285.

Dated: January 22, 2010.
Elaine Parry,
Director, Office of Management, Technology and Operations.

[FR Doc. 2010-32745 Filed 12-28-10; 8:45 am]

BILLING CODE 4162-20-P